DEPARTMENT OF VETERANS AFFAIRS

Blue Ribbon Panel on VA-Medical School Affiliations; Notice of Meeting

The Department of Veterans Affairs (VA) gives notice under Public Law 92-463 (Federal Advisory Committee Act) that the Blue Ribbon Panel on VA-Medical School Affiliations has scheduled a meeting for March 24-25, 2009, in Suite 870 at 1800 G Street, NW., Washington, DC. The sessions will begin at 8:30 a.m. each day and end at 5 p.m. on March 24 and at noon on March 25. The meeting is open to the public.

The purpose of the Panel is to advise the Secretary of Veterans Affairs, through the Under Secretary for Health, on issues related to a comprehensive philosophical framework to enhance VA's partnerships with medical schools and affiliated institutions.

The major item on the agenda for both days will include the members of the Panel discussing the content and format of their final report and recommendations to the Secretary of Veterans Affairs.

Interested persons may attend and present oral statements to the Panel. Oral presentations will be limited to five minutes or less, depending on the number of participants. Requests to address the Panel should be sent by e-mail to Gloria.Holland@va.gov. Interested parties may also provide written comments for review by the Panel prior to the meeting or at any time, by e-mail to Gloria.Holland@va.gov or by mail to Gloria J. Holland, Ph.D., Special Assistant for Policy and Planning to the Chief Academic Affiliations Officer (14), 810 Vermont Avenue, NW., Washington, DC 20420.

Dated: March 5, 2009.
By Direction of the Secretary:
E. Philip Riggin,
Committee Management Officer.

[FR Doc. E9-5068 Filed 3-6-09; 8:45 am]

BILLING CODE 8320-01-P